DEPARTMENT OF ENERGY

Federal Energy Regulatory Commission

[Docket No. RP02-185-000]

Florida Gas Transmission Company; Notice of Proposed Changes in FERC Gas Tariff

March 7, 2002.

Take notice that on March 1, 2002, Florida Gas Transmission Company (FGT) tendered for filing to become part of its FERC Gas Tariff, Third Revised Volume No. 1, the following tariff sheets, effective April 1, 2002:

Eighth Revised Sheet No. 2

Fifty-Second Revised Sheet No. 8A

Forty-Fourth Revised Sheet No. 8A.01

Forty-Fourth Revised Sheet No. 8A.02

Second Revised Sheet No. 8A.04

Eleventh Revised Sheet No. 207

Original Sheet No. 207A

Original Sheet No. 207B

FGT states that in conjunction with its Phase V Expansion approved in Docket Nos. CP00-40, et al., it will install electric driven compressor units at its Compressor Station 13A. To power the compressors, FGT states that it has entered into a long-term contract for shaft horsepower with an affiliate, Enron Compressor Services (ECS). FGT states that ECS's ability to perform its obligations to deliver shaft horse power is uncertain because of issues surrounding the bankruptcy of Enron Corp and a number of Enron subsidiaries. FGT states that, because of the uncertainty surrounding its arrangement with ECS, FGT may be required to purchase power directly from the electric utility authorized to serve the new units at Station 13A. FGT states that the instant filing is to establish a Purchased Power Surcharge to recover usage related payments made by FGT to operate the units at Station 13A.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6003 Filed 3-12-02; 8:45 am]

BILLING CODE 6717-01-P